DEPARTMENT OF COMMERCE

National Oceanic and Atmospheric Administration

[I.D. 041002B]

Endangered Species; Permits

AGENCY: National Marine Fisheries Service (NMFS), National Oceanic and Atmospheric Administration (NOAA), Commerce.

ACTION: Receipt of an application for a research permit (1375).

SUMMARY: Notice is hereby given of the following actions regarding permits for takes of endangered and threatened species for the purposes of scientific research and/or enhancement under the Endangered Species Act (ESA): NMFS has received an application for a research permit from Dr. Thomas J. Kwak, of U. S. Geological Survey - North Carolina Cooperative Fish and Wildlife Research Unit (USGS).

DATES: Comments or requests for a public hearing on any of the new applications or modification requests must be received at the appropriate address or fax number no later than 5 p.m. eastern standard time on May 20, 2002.

ADDRESSES: Written comments on the new application should be sent to the appropriate office as indicated below. Comments may also be sent via fax to the number indicated for the application. Comments will not be accepted if submitted via e-mail or the Internet. The application and related documents are available for review in the indicated office, by appointment:

Permits, Conservation and Education Division, F/PR1, 1315 East West Highway, Silver Spring, MD 20910 (phone:301-713-2289, fax: 301-713-0376).

FOR FURTHER INFORMATION CONTACT: Lillian Becker, Silver Spring, MD (phone: 301-713-2319, fax: 301-713-0376, e-mail: Lillian.Becker@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Fish

Endangered Shortnose Sturgeon (Acipenser brevirostrum)

Application 1375

The applicant proposes to place 600 caged shortnose sturgeon into the Roankoke/Albemarle river system at 10 test sites that represent variations in water quality to investigate growth, survival and bioaccumulation of contaminants by the fish. They will be in place for 28 days One hundred additional fish will be used as the baseline for the growth and bioaccumulation. The shortnose sturgeon will be juveniles from the U. S. Fish & Wildlife Service Bears Bluff Hatchery, Charleston, SC. The fish will be double caged to prevent their escaping into the wild.

This experiment is to determine if whether water quality is a factor in the demise of the shortnose sturgeon in the Roankoke/Albemarle river system.

Dated: April 12, 2002.
Ann Terbush,
Chief, Permits, Conservation, and Education Division, office of Protected Resources, National Marine Fisheries Service.

[FR Doc. 02-9524 Filed 4-17-02; 8:45 am]

BILLING CODE 3510-22-S